DEPARTMENT OF LABOR

Occupational Safety and Health Administration

[Docket No. OSHA-2019-0009]

DEKRA Certification Inc.: Grant of Expansion of Recognition and Modification to the NRTL Program's List of Appropriate Test Standards

AGENCY: Occupational Safety and Health Administration (OSHA), Labor.

ACTION: Notice.

SUMMARY: In this notice, OSHA announces the final decision to expand the scope of recognition of DEKRA Certification Inc., (DEKRA) as a Nationally Recognized Testing Laboratory (NRTL). Additionally, OSHA announces the final decision to add one test standard to the NRTL List of Appropriate Test Standards.

DATES: The expansion of the scope of recognition becomes effective on April 23, 2024.

FOR FURTHER INFORMATION CONTACT: Information regarding this notice is available from the following sources:

Press inquiries: Contact Mr. Frank Meilinger, Director, OSHA Office of Communications, U.S. Department of Labor; telephone (202) 693-1999 or email meilinger.francis2@dol.gov.

General and technical information: Contact Mr. Kevin Robinson, Director, Office of Technical Programs and Coordination Activities, Directorate of Technical Support and Emergency Management, Occupational Safety and Health Administration, U.S. Department of Labor; telephone (202) 693-1911 or email robinson.kevin@dol.gov.

SUPPLEMENTARY INFORMATION:

I. Notice of the Final Decision

OSHA hereby gives notice of the expansion of the scope of recognition of DEKRA Certification Inc., (DEKRA) as a NRTL. DEKRA's expansion covers the addition of three test standards to the NRTL scope of recognition.

OSHA recognition of a NRTL signifies that the organization meets the requirements specified in 29 CFR 1910.7. Recognition is an acknowledgment that the organization can perform independent safety testing and certification of the specific products covered within the scope of recognition. Each NRTL's scope of recognition includes (1) the type of products the NRTL may test, with each type specified by the applicable test standard; and (2) the recognized site(s) that has/have the technical capability to perform the product-testing and product-certification activities for test standards within the NRTL's scope. Recognition is not a delegation or grant of government authority; however, recognition enables employers to use products approved by the NRTL to meet OSHA standards that require product testing and certification.

The agency processes applications by NRTLs or applicant organizations for initial recognition, as well as for expansion or renewal of recognition, following requirements in Appendix A to 29 CFR 1910.7. This appendix requires that the agency publish two notices in the Federal Register in processing an application. In the first notice, OSHA announces the application and provides a preliminary finding. In the second notice, the agency provides the final decision on the application. These notices set forth the NRTL's scope of recognition or modifications of that scope. OSHA maintains an informational web page for each NRTL, including DEKRA, which details that NRTL's scope of recognition. These pages are available from the OSHA website at https://www.osha.gov/dts/otpca/nrtl/index.html.

DEKRA submitted an application on December 24, 2021 (OSHA-2019-0009-0004), which requested the addition of twenty-two standards to the scope of recognition. DEKRA submitted an amended application, dated June 21, 2023 (OSHA-2019-0009-0003), which requested that OSHA consider three of the twenty-two standards separately. OSHA then moved forward with consideration only of the three standards requested in the June 21, 2023, amended application; it is still evaluating the initial application and will announce the preliminary decision on the remaining nineteen standards in a separate notice. OSHA staff performed a detailed analysis of the application packet for the three standards covered by the June 21, 2023, amended application, and other pertinent information. OSHA staff performed an on-site assessment of DEKRA's Netherlands facility on June 5-7, 2023, in which OSHA assessors found some nonconformances with the requirements of 29 CFR 1910.7. DEKRA has addressed these issues sufficiently, and OSHA staff preliminarily determined that OSHA should grant the June 21, 2023, amended application.

OSHA published the preliminary notice announcing DEKRA's expansion application in the Federal Register on March 1, 2024 (89 FR 15223). The agency requested comments by March 18, 2024, but it received no comments in response to this notice.

To obtain or review copies of all public documents pertaining to the DEKRA application, go to http://www.regulations.gov or contact the Docket Office, Occupational Safety and Health Administration, U.S. Department of Labor. Docket No. OSHA-2019-0009 contains all materials in the record concerning DEKRA's recognition. Contact the OSHA Docket Office at (202) 693-2350 (TTY (877) 889-5627) for assistance in locating docket submissions.

II. Final Decision and Order

OSHA staff examined DEKRA's expansion application, its capability to meet the requirements of the test standards, and other pertinent information. Based on its review of this evidence, OSHA finds that DEKRA meets the requirements of 29 CFR 1910.7 for expansion of its recognition, subject to the limitations and conditions listed in this notice. OSHA, therefore, is proceeding with this final notice to grant DEKRA's expanded scope of recognition. OSHA limits the expansion of DEKRA's recognition to testing and certification of products for demonstration of conformance to the test standards listed below in table 1.

Table 1—Test Standards for Inclusion in DEKRA's NRTL Scope of Recognition
Test standard | Test standard title
UL 2202 | DC Charging Equipment for Electric Vehicles.
UL 2251 * | Plugs, Receptacles, and Couplers for Electric Vehicles.
UL 2594 | Electric Vehicle Supply Equipment.
* Represents the standard that OSHA will add to the NRTL Program's List of Appropriate Test Standards.

In this notice, OSHA also announces the final decision to add one new test standard to the NRTL Program's List of Appropriate Test Standards. Table 2 below lists the standard that is new to the NRTL Program. OSHA has determined that this test standard is an appropriate test standard and will add it to the NRTL Program's List of Appropriate Test Standards.

Table 2—Standard OSHA Will Add to the NRTL Program's List of Appropriate Test Standards
Test standard | Test standard title
UL 2251 | Plugs, Receptacles, and Couplers for Electric Vehicles.

The American National Standards Institute (ANSI) may approve the test standards listed above as American National Standards. However, for convenience, we may use the designation of the standards-developing organization for the standard as opposed to the ANSI designation. Under the NRTL Program's policy (see OSHA Instruction CPL 01-00-004, Chapter 2, Section VIII), any NRTL recognized for a particular test standard may use either the proprietary version of the test standard or the ANSI version of that standard. Contact ANSI to determine whether a test standard is currently ANSI-approved.

A. Conditions

In addition to those conditions already required by 29 CFR 1910.7, DEKRA must abide by the following conditions of the recognition:

1. DEKRA must inform OSHA as soon as possible, in writing, of any change of ownership, facilities, or key personnel, and of any major change in its operations as a NRTL, and provide details of the change(s);

2. DEKRA must meet all the terms of its recognition and comply with all OSHA policies pertaining to this recognition; and

3. DEKRA must continue to meet the requirements for recognition, including all previously published conditions on DEKRA's scope of recognition, in all areas for which it has recognition.

Pursuant to the authority in 29 CFR 1910.7, OSHA hereby expands the scope of recognition of DEKRA as a NRTL, subject to the limitations and conditions specified above. OSHA also adds one test standard to the NRTL Program's List of Appropriate Test Standards.

III. Authority and Signature

James S. Frederick, Deputy Assistant Secretary of Labor for Occupational Safety and Health, authorized the preparation of this notice. Accordingly, the agency is issuing this notice pursuant to 29 U.S.C. 657(g)(2), Secretary of Labor's Order No. 8-2020 (85 FR 58393, Sept. 18, 2020), and 29 CFR 1910.7.

Signed at Washington, DC, on April 16, 2024.
James S. Frederick,
Deputy Assistant Secretary of Labor for Occupational Safety and Health.

[FR Doc. 2024-08599 Filed 4-22-24; 8:45 am]

BILLING CODE 4510-26-P